DEPARTMENT OF TRANSPORTATION

National Highway Traffic Safety Administration

[U.S. DOT Docket Number NHTSA-2020-0004]

Agency Information Collection Activities; Notice and Request for Comment; Petitions for Exemption from the Vehicle Theft Prevention Standard

AGENCY: National Highway Traffic Safety Administration (NHTSA), Department of Transportation.

ACTION: Notice and request for comments on a reinstatement of a previously-approved information collection.

SUMMARY: The National Highway Traffic Safety Administration (NHTSA) invites public comments about our intention to request approval from the Office of Management and Budget (OMB) to reinstate a previously-approved information collection. Before a Federal agency can collect certain information from the public, it must receive approval from OMB. Under procedures established by the Paperwork Reduction Act of 1995, before seeking OMB approval, Federal agencies must solicit public comment on proposed collections of information, including extensions and reinstatement of previously approved collections. This document describes one collection of information for which NHTSA intends to seek OMB approval.

DATES: Comments must be received on or before October 19, 2020.

ADDRESSES: You may submit comments identified by the Docket No. DOT-NHTSA-2020-0004 through any of the following methods:

• Federal eRulemaking Portal: http://www.regulations.gov. Follow the online instructions for submitting comments.

• Fax: 1-202-493-2251.

• Mail or Hand Delivery: Docket Management, U.S. Department of Transportation, 1200 New Jersey Avenue SE, West Building, Room W12-140, Washington, DC 20590, between 9 a.m. and 5 p.m., Monday through Friday, except on Federal holidays.

FOR FURTHER INFORMATION CONTACT: For additional information or access to background documents, contact Carlita Ballard, Office of International Policy, Fuel Economy and Consumer Programs, NHTSA, West Building, W43-439, NRM-310, 1200 New Jersey Avenue SE, Washington, DC 20590. Ms. Ballard's telephone number is (202) 366-5222. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following: (i) Whether the proposed collection of information is necessary for the proper performance of the functions of the agency, including whether the information will have practical utility; (ii) the accuracy of the agency's estimate of the burden of the proposed collection of information, including the validity of the methodology and assumptions used; (iii) how to enhance the quality, utility, and clarity of the information to be collected; (iv) how to minimize the burden of the collection of information on those who are to respond, including the use of appropriate automated, electronic, mechanical, or other technological collection techniques or other forms of information technology, e.g. permitting electronic submission of responses. In compliance with these requirements, NHTSA asks for public comments on the following proposed collection of information for which the agency is seeking approval from OMB.

Title: Petitions for Exemption From the Vehicle Theft Prevention Standard (49 CFR part 543).

OMB Control Number: 2127-0542.

Type of Request: Request for approval of a reinstatement of a previously-approved information collection.

Type of Review Requested: Regular.

Length of Approval Requested: Three years.

Affected Public: Motor vehicle manufacturers.

Requested Expiration Date of Approval: Three years from approval date.

Summary of Information Collection: 49 U.S.C. Chapter 331 requires the Secretary of Transportation to promulgate a theft prevention standard to provide for the identification of certain motor vehicles and their major replacement parts (parts-marking) to impede motor vehicle theft. Under 49 U.S.C. 33106, manufacturers may petition the Secretary of Transportation (NHTSA by delegation) for an exemption from the parts-marking requirement for a line of passenger motor vehicles equipped with an anti-theft device as standard equipment that the Secretary (NHTSA by delegation) decides is likely to be as effective in reducing and deterring motor vehicle theft as compliance with the parts-marking requirements. In accordance with the statute, NHTSA promulgated 49 CFR part 543 to provide a process through which manufacturers may seek an exemption from the Theft Prevention Standard. Under these regulations, each manufacturer may request an exemption for one vehicle line per model year.

Under the current part 543, manufacturers choose how they wish to demonstrate to the agency that the anti-theft device they are installing in a vehicle line meets the requirements for exemption: by either the factors listed in § 543.6 (specific content requirements: detailed lists, data, and explanations) or by the criteria listed in § 543.7 (performance criteria). Section 543.6 requires manufacturer to submit: (1) A statement that an antitheft device will be installed as standard equipment on all vehicles in the line for which an exemption is sought; (2) a list naming each component in the antitheft system, and a diagram showing the location of each of those components within the vehicle; (3) a discussion that explains the means and process by which the device is activated and functions, including any aspect of the device designed to facilitate or encourage its activation by motorists, attract attention to the efforts of an unauthorized person to enter or move the vehicle by means other than a key, prevent defeating or circumventing the device by an unauthorized person attempting to enter a vehicle by means other than a key, prevent the operation of a vehicle which an unauthorized person has entered using means other than a key, and ensure the reliability and durability of the device; (4) the reasons for the petitioner's belief that the antitheft device will be effective in reducing and deterring motor vehicle theft, including any theft data and other data that are available to the petitioner and form the basis for that belief; (5) the reasons for the petitioner's belief that the agency should determine that the antitheft device is likely to be as effective as compliance with the parts-marking requirements of Part 541 in reducing and deterring motor vehicle theft, including any statistical data that are available to the petitioner and form a basis for petitioner's belief that a line of passenger motor vehicles equipped with the antitheft device is likely to have a theft rate equal to or less than that of passenger motor vehicles of the same, or similar, line which have parts marked in compliance with part 541.

Section 543.7 requires manufacturers to submit a statement that the entire line of vehicles is equipped with an immobilizer, as standard equipment, that meets one of the following: (1) The performance criteria of (subsections 8 through 21) of C.R.C, c. 1038.114, Theft Protection and Rollaway Prevention (in effect March 30, 2011), as excerpted in appendix A of this part; (2) National Standard of Canada CAN/ULC-S338-98, Automobile Theft Deterrent Equipment and Systems: Electronic Immobilization (May 1998); (3) United Nations Economic Commission for Europe (UN/ECE) Regulation No. 97 (ECE R97), Uniform Provisions Concerning Approval of Vehicle Alarm System (VAS) and Motor Vehicles with Regard to Their Alarm System (AS) in effect August 8, 2007; or (4) UN/ECE Regulation No. 116 (ECE R116), Uniform Technical Prescriptions Concerning the Protection of Motor Vehicles Against Unauthorized Use in effect on February 10, 2009. Manufacturers must also submit documentation kept to demonstrate that the device conforms with the performance criteria and a statement that the immobilizer device is durable and reliable.

Description of the Need for the Information and Proposed Use of the Information: NHTSA requires this information to make a determination of whether an anti-theft device a manufacturer is installing in a vehicle line is likely to be as effective in reducing and deterring motor vehicle theft as compliance with the parts-marking requirements and therefore meets the requirements for the grant of an exemption from Part 541 parts-marking.

Estimated Number of Respondents: 12.

The universe of possible petitioners includes all vehicle manufacturers that are required to comply with the Theft Prevention Standard. There are approximately 23 vehicle manufacturers. NHTSA received 32 petitions for exemption from the parts-marking requirements for MYs 2017-2020, and 12 petitions in the most recent year: 9 respondents filing under § 543.6 and 3 respondents filing under § 543.7. We anticipate that the number of petitions received in each of the next three years will be the same as the number of petitions received in the most recent year, with 9 petitions submitted under § 543.7 and 3 submitted under § 543.6 for a total of 12 petitions. Because each manufacturer is limited to requesting an exemption for one vehicle line per model year, NHTSA estimates that each petition will be submitted by a different vehicle manufacturer. Therefore, we estimate the total number of responses and respondents will be 12.

Estimated Total Annual Burden Hours: 2,094.

NHTSA estimates, based on information provided by manufacturers, that 226 hours will be required for exemptions requested under § 543.6, and 20 hours for exemptions requested under § 543.7. The agency expects that nine manufacturers will choose to file for an exemption under § 543.6 and three manufacturers will choose to file for an exemption under § 543.7. The estimated total annual burden hours are shown below:

| Average number of petitions per year | Average time per petition submittal (hrs) | Total annual hours
Preparation and Submittal of Petition for Exemption under § 543.6 | 9 | 226 | 2,034
Preparation and Submittal of Petition for Exemption under § 543.7 | 3 | 20 | 60
Estimated Total Annual Burden Hours: |  |  | 2,094

The labor cost associated with the burden hours for this collection is derived by (1) applying appropriate average hourly labor rate for “Compliance Officers,” Occupation Code 13-1041, published by the Bureau of Labor Statistics,¹ (2) dividing by 0.701 ² (70.1%) to obtain the total compensation rate for private industry workers, and (3) multiplying by the estimated labor hours for each exemption type.

¹ May 2018 National Occupational Employment and Wage Estimates, United States. Business and Financial Operations Occupations, Compliance Officers, Occupation Code 13-1041; Mean Hourly Wage = $34.86. https://www.bls.gov/oes/current/oes_nat.htm. Accessed Mar. 9, 2020.

² See Table 1 at https://www.bls.gov/news.release/ecec.t01.htm.

| Hourly labor cost | Average time per petition submittal | Labor cost/petition | Estimated number of petitions/year | Annual labor cost
Preparation and Submittal of Petition for Exemption under § 543.6 | $49.73 | 226 | $11,238.98 | 9 | $101,151
Preparation and Submittal of Petition for Exemption under § 543.7 | 49.73 | 20 | 994.60 | 3 | 2,984
Estimated Annual Labor Cost for This Information Collection: |  |  |  |  | 104,135

Costs to Respondents or Recordkeepers: $0.

NHTSA estimates that there will be no costs to respondents other than costs associated with burden hours.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. Chapter 35, as amended; 49 CFR 1.49; and DOT Order 1351.29.

Issued in Washington, DC.
Raymond R. Posten,
Associate Administrator for Rulemaking.

[FR Doc. 2020-18216 Filed 8-19-20; 8:45 am]

BILLING CODE 4910-59-P